DEPARTMENT OF COMMERCE

Foreign-Trade Zones Board

[B-92-2012]

Foreign-Trade Zone 26 — Atlanta, Georgia Notification of Proposed Production Activity Suzuki Mfg. of America Corp. (All-Terrain Vehicles) Rome, Jonesboro and Cartersville, Georgia

Georgia Foreign-Trade Zone, Inc., grantee of FTZ 26, submitted a notification of proposed production activity on behalf of Suzuki Mfg. of America Corp. (SMAC), located in Rome, Jonesboro, and Cartersville, Georgia. The notification conforming to the requirements of the regulations of the Foreign-Trade Zones Board (15 CFR 400.22) was received on November 19, 2012.

The SMAC facilities are located at: 1520 and 1627 Technology Parkway, NW., Rome (Floyd County); 9250 Main Street, Jonesboro (Clayton County); and, 400 High Point Road Cartersville (Bartow County), Georgia. A separate request for subzone designation at the SMAC facilities has been processed under Section 400.24(c) of the Board's regulations. The facilities are used for the production of all-terrain vehicles (ATVs) and related components (carriers, footrests, fuel tanks, grips/handle bars, frames, rear box assemblies). Production under FTZ procedures could exempt SMAC from customs duty payments on the foreign status components and materials used in export production. On its domestic sales, SMAC would be able to choose the duty rate during customs entry procedures that apply to ATVs and related components (free—2.5%) for the foreign status inputs noted below. Customs duties also could possibly be deferred or reduced on foreign status production equipment.

Components and materials sourced from abroad include: articles of rubber, hoses, gaskets, washers, fasteners, springs, sign plates/labels, brackets, plates, braces, fittings, body parts, engines and related parts, pumps, fans, valves, hose/pipe assemblies, guides, electrical components, coils, sensors and related assemblies, resistors, horns, relays, switches, lighting equipment, radiators, electronic control units, stampings, other parts of ATVs, brake parts, axles, gauges, and wheels (duty rate ranges from free to 8.6%).

Public comment is invited from interested parties. Submissions shall be addressed to the Board's Executive Secretary at the address below. The closing period for their receipt is February 4, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: December 19, 2012.
Andrew McGilvray,
Executive Secretary.

[FR Doc. 2012-31082 Filed 12-21-12; 4:15 pm]

BILLING CODE P